NATIONAL AERONAUTICS AND SPACE ADMINISTRATION

[Notice: 24-059]

NASA Balloon Program Independent Review Subcommittee; Meeting

AGENCY: National Aeronautics and Space Administration.

ACTION: Notice of meeting.

SUMMARY: In accordance with the Federal Advisory Committee Act, as amended, the National Aeronautics and Space Administration (NASA) announces a meeting of the Balloon Program Independent Review Subcommittee. This subcommittee reports to the NASA Astrophysics Advisory Committee, which reports to the Director, Astrophysics Division, Science Mission Directorate, NASA Headquarters. The meeting will be held for the purpose of soliciting, from the scientific community and other persons, scientific and technical information relevant to program planning.

DATES: Thursday, September 12, 2024, 9:00 a.m. to 5:00 p.m. eastern time.

ADDRESSES: Public attendance will be virtual only. See dial-in and webinar information below under SUPPLEMENTARY INFORMATION.

FOR FURTHER INFORMATION CONTACT: Ms. KarShelia Kinard, Science Mission Directorate, NASA Headquarters, Washington, DC 20546, (202) 358-2355 or karshelia.kinard@nasa.gov.

SUPPLEMENTARY INFORMATION: As noted above, this meeting is virtual and will take place telephonically and via a webinar. Any interested person must use a touch-tone phone to participate in this meeting. The connectivity information for each day is provided below. For audio, when you join the event, you may use your computer or provide your phone number to receive a call back, otherwise, call the U.S. toll conference number listed for each day. The webinar information for attendees is: https://nasaevents.webex.com/nasaevents/j.php?MTID=m78d8aba84d917dacd434b45e863dabc2. The meeting number is: 2824 694 9184 and the meeting password is: KFu9r3Ydqd3 (53897393 when dialing from a phone or video system).

To join by telephone, the toll numbers are +1-415-527-5035 United States Toll or +1-312-500-3163 United States Toll (Chicago). Access code: 282 469 49184.

The agenda for the meeting includes the following topics:

—Summary of the Balloon Program Independent Review Subcommittee Charge

—Discussion and Deliberations on Recommendations for the Balloon Program.

The agenda and Program Analysis Group presentations will be posted on the Astrophysics Advisory Committee web page: https://science.nasa.gov/researchers/nac/science-advisory-committees/apac.

It is imperative that the meeting be held on these dates to accommodate the scheduling priorities of the key participants.

Jamie M. Krauk,
Advisory Committee Management Officer, National Aeronautics and Space Administration.

[FR Doc. 2024-19473 Filed 8-28-24; 8:45 am]

BILLING CODE 7510-13-P